DEPARTMENT OF THE INTERIOR

Bureau of Land Management

[NV-057-1630-NU; 7-08807]

Shooting Closure on Certain Lands Managed by the Bureau of Land Management, Las Vegas Field Office

AGENCY: Bureau of Land Management, Interior.

ACTION: Notice of final decision for establishment of a permanent shooting closure on selected public lands in Nye County, Nevada.

SUMMARY: The Bureau of Land Management (BLM) Las Vegas Field Office announces a target shooting closure on about 11,874 acres of selected public lands in Nye County near the southwest portion of the Town of Pahrump. The permanent closure is being made for the safety of persons and property adjacent to the selected public lands at the request and concurrence of the Nye County Commissioners, the Nye County Sheriff's Office and the Pahrump Town Board. The rapid increase in population and growth in Pahrump, Nevada has created conflicts between new residential areas and public land areas traditionally used for target shooting. This closure does not apply to hunting under the laws and regulations of the State of Nevada or other recreational activities. The BLM is establishing this shooting closure under the authority of 43 CFR 8364.1 which allows closures for the protection of persons, property, and public lands and resources. This provision allows the BLM to issue closures of less than national effect without codifying the rules in the Code of Federal Regulations.

DATES: Effective Date: October 5, 2007.

FOR FURTHER INFORMATION CONTACT: Erika Schumacher, Chief Ranger of Law Enforcement, (702) 515-5000. Maps depicting the area affected by this closure order are available for public inspection at the BLM Las Vegas Field Office, 4701 N. Torrey Pines Drive, Las Vegas, Nevada.

SUPPLEMENTARY INFORMATION: Public lands affected are within the following described area:

Mount Diablo Meridian, Nevada

T. 21, R. 53

Secs 14, 15, 22, 23, 24, 25, 26, 27, 34, 35, 36;

T. 21, R. 54

Secs 21, 22, 27, 28, 29, 30 and 31, 32, 33, 34;

T. 22, R. 53

Secs 1, 2 and 12;

T. 22, R. 54

Secs 5, 6 and 7.

The area described contains 11,874 acres, more or less, in Nye County.

Exceptions to Closure

a. Hunting with a valid state hunting license and in accordance with the laws; and

b. Law Enforcement personnel in the performance of their duties.

Closure Restrictions

Unless otherwise authorized, within the closure area no person shall:

a. Discharge any firearm, unless specifically exempted by closure order; and

b. Unless specifically addressed by regulations set forth in 43 CFR, the laws and regulations of the State of Nevada and Nye County shall govern the use and possession of firearms. Such state and county laws and regulations which are now or may later be in effect are hereby adopted and made part of this closure.

Definitions

Firearm: Any weapon capable of firing a projectile including but not limited to rifle, shotgun, handgun, BB-gun, pellet gun, etc.

Violations of any terms, conditions, or restrictions contained in this closure order, may subject the violator to citation or arrest, with penalty of fine and imprisonment or both as specified by law.

The Las Vegas Field Office sought comments for 60 days regarding the target shooting closure. The majority of comments came from the Pahrump area and Las Vegas Valley. The majority of comments were against the proposed target shooting closure. The BLM is closing the area to target shooting for public health and safety reasons. Residential areas are being impacted by target shooting and two new housing developments were recently approved in the closure area. Other areas nearby remain open to target shooting.

Procedural Matters

Executive Order 12866, Regulatory Planning and Review

This shooting closure is not a significant regulatory action and is not subject to review by the Office of Management and Budget under Executive Order 12866. This shooting closure will not have an annual effect of $100 million or more on the economy. It is not intended to affect commercial activity, but it contains rules of conduct for public use of certain public lands. It will not adversely affect, in a material way, the economy, productivity, competition, jobs, the environment, public health or safety, or state, local, or Tribal governments or communities. This shooting closure will not create a serious inconsistency or otherwise interfere with an action taken or planned by another agency. This shooting closure does not materially alter the budgetary effects of entitlements, grants, user fees, or loan programs or the right or obligations of their recipients; nor does it raise novel legal or policy issues. It merely imposes certain rules on target shooting use on a limited portion of public lands in Southern Nevada in order to protect human health, and safety.

National Environmental Policy Act

This shooting closure itself does not constitute a major federal action significantly affecting the quality of the human environment under section 102(2)(C) of the National Environmental Policy Act of 1969, 42 U.S.C. 4332(2)(C).

Regulatory Flexibility Act

Congress enacted the Regulatory Flexibility Act, (RFA) 5 U.S.C. 601-612, to ensure that Government regulations do not unnecessarily or disproportionately burden small entities. The RFA required a regulatory flexibility analysis if a rule would have a significant economic impact, either detrimental or beneficial on a substantial number of small entities. The shooting closure does not pertain specifically to commercial or governmental entities of any size, but to public recreational use of specific lands. Therefore, BLM has determined under the RFA that these interim supplementary rules would not have significant economic impact on a substantial number of small entities.

Small Business Regulatory Enforcement Fairness Act (SBREFA)

This shooting closure does not constitute a “major rule” as defined by U.S.C. 804(2). The shooting closure merely contains rules of conduct for target shooting use of certain public lands. The shooting closure has no effect on business, commercial, or industrial use of the public lands.

Unfunded Mandates Reform Act

The shooting closure does not impose an unfunded mandate on state, local, or Tribal governments in the aggregate, or the private sector, of more than $100 million per year; nor does it have a significant or unique effect on small governments. The shooting closure does not require anything of state, local, or Tribal governments. Therefore, BLM is not required to prepare a statement containing the information required by the Unfunded Mandates Reform Act (2 U.S.C. 1532 et seq.).

Executive Order 12630, Governmental Actions and Interference With Constitutionally Protected Property Rights (Takings)

The shooting closure is not a government action capable of interfering with constitutionally protected property rights. The shooting closure does not address property rights in any form, and does not cause the impairment of any property rights. Therefore, the Department of the Interior has determined that this shooting closure would not cause a taking of private property or require further discussion of takings implications under this Executive Order.

Executive Order 13132 Federalism

The shooting closure will not have a substantial direct effect on the states; on the relationship between the national government and the states; or on the distribution of power and responsibilities among the various levels of government. The shooting closure affects land in only one state, Nevada. Therefore, BLM has determined that the shooting closure does not have sufficient Federalism implications to warrant preparation of a Federalism Assessment.

Executive Order 12988, Civil Justice Reform

Under Executive Order 12988, the Office of the Solicitor has determined that the shooting closure will not unduly burden the judicial system and that the requirements of sections 3(a) and 3(b)(2) of the Order are met. The shooting closure includes rules of conduct and prohibited acts, but they are straightforward and not confusing, and their enforcement should not unreasonably burden the United States Magistrate who will try any persons cited for violating them.

Executive Order 13175, Consultation and Coordination With Indian Tribal Governments

In accordance with Executive Order 13175, the BLM has found that this shooting closure does not include policies having Tribal implications. The shooting closure does not affect lands held for the benefit of Indians, Aleuts or Eskimos.

Paperwork Reduction Action

The shooting closure does not contain information collection requirements that the Office of Management and Budget must approve under the paperwork reduction Act, 44 U.S.C. 3501 et seq. Rules requiring special recreation permits for certain recreational users will involve collection of information contained on BLM Special recreation Permit Form 2930-1.

Authority: 43 CFR 8364.1.

Dated: September 11, 2007.
Juan Palma,
Field Manager, Las Vegas Field Office.

[FR Doc. E7-19698 Filed 10-4-07; 8:45 am]

BILLING CODE 4310-HC-P